DEPARTMENT OF JUSTICE

Notice of Lodging of Consent Decree Pursuant to the Comprehensive Environmental Response, Compensation, and Liability Act

Notice is hereby given that consent decrees in United States v. Nicholas Schorsh, NTFJ Corporation, and Robert Brumbaugh, Civil Action No. 97-0744 (E.D.Pa.) were lodged with the Court on July 30, 2001.

The proposed consent decrees resolve the claims of the United States against the defendants Nicholas Schorsch, NTFJ Corporation and Robert Brumbaugh under section 107 of the Comprehensive Environmental Response Compensation and Liability Act, as amended (“CERCLA”), 42 U.S.C. 9607, for past response costs at the Coleman Laboratory Superfund Site in Philadelphia, Pennsylvania. The decrees oblige defendants Nicholas Schorsch and NTFJ Corporation to reimburse $105,000, and defendant Robert Brumbaugh $55,000 of the United States' past response costs.

The Department of Justice will receive, for a period of thirty (30) days from the date of this publication, comments relating to the proposed consent decree. Comments should be addressed to the Deputy Chief, Environmental Enforcement Section, P.O. Box 7611, U.S. Department of Justice, Washington, D.C. 20044-7611 and should refer to United States v. Nicholas Schorsch, NTFJ Corporation and Robert Brumbaugh DOJ Ref. # 90-11-3-1546.

The proposed consent decrees may be examined and copied at the Office of the United States Attorney, 615 Chestnut Street, Suite 1250, Philadelphia, PA, 19106-4476, or the Region III Office of the Environmental Protection Agency, c/o Gail Wilson, Assistant Regional Counsel, 1650 Arch Street, Philadelphia, PA 19103. Copies of the consent decrees may be obtained by mail from the Consent Decree Library, P.O. Box No. 7611, Washington, DC 20044. In requesting a copy, please refer to the referenced case and enclose a check in the amount of $10.50 (25 cents per page reproduction costs), payable to the Consent Decree Library.

Robert Brook,
Assistant Section Chief, Environmental Enforcement Section, Environment and Natural Resources Division.

[FR Doc. 01-20527 Filed 8-14-01; 8:45 am]

BILLING CODE 4410-15-M